SECURITIES AND EXCHANGE COMMISSION

[Release No. 34-43629; File No. SR-EMCC-00-06]

Self-Regulatory Organizations; Emerging Markets Clearing Corporation; Notice of Filing and Immediate Effectiveness of Proposed Rule Change Relating to Issuing Reports Concerning Warrants With a Money Distribution

November 28, 2000.

Pursuant to Section 19(b)(1) of the Securities Exchange Act of 1934 (the “Act”),¹ notice is hereby given that on August 22, 2000, the Emerging Markets Clearing Corporation (“EMCC”) filed with the Securities and Exchange Commission “Commission”) the proposed rule change as described in Items I, II, and III below, which Items have been prepared by EMCC. The Commission is publishing this notice to solicit comments on the proposed rule change from interested persons.

¹ 15 U.S.C. 78s(b)(1)

I. Self-Regulatory Organization's Statement of the Terms of Substance of the Proposed Rule Change

The proposed rule change would clarify EMCC's procedures for issuing reports concerning warrants with a money distribution.

II. Self-Regulatory Organization's Statement of the Purpose of, and Statutory Basis for the Proposed Rule Change

In its filing with the Commission, EMCC included statements concerning the purpose of and basis for the proposed rule change and discussed any comments it received on the proposed rule change. The text of these statements may be examined at the places specified in Item IV below. EMCC has prepared summaries, set forth in sections A, B, and C below, of the most significant aspects of such statements.²

² The Commission has modified the text of the summaries prepared by EMCC.

A. Self-Regulatory Organization's Statement of the Purpose of, and Statutory Basis for, the Proposed Rule Change

Currently, Rule 7, Section 16, paragraph (b) of EMCC's Rules provides that where an issuer of a warrant has declared a money distribution on such warrant, EMCC will issue a “Record Date Report” (“Report”) to each EMCC member with an outstanding fail deliver or fail receive obligation with respect to that warrant. The Report indicates the member's record date delivery or receive obligations with respect to the distribution. The Rules specify that the Report is to be issued on the record date.

However, EMCC believes that there is no operational reason for the Report to be produced on the record date. The proposed rule change would allow EMCC to provide this information to its members through one or more reports that will be issued after a record date is declared.

EMCC believes that the proposed rule change is consistent with the requirements of Section 17A of the Act and the rules and regulations thereunder because it would provide EMCC with the capability to issue informative reports to members with affected positions and therefore will facilitate the prompt and accurate clearance and settlement of emerging market securities transactions.

B. Self-Regulatory Organization's Statement on Burden on Competition

EMCC does not believe that the proposed rule change will have an impact on or impose a burden on competition.

C. Self-Regulatory Organization's Statement on Comments on the Proposed Rule Change Received From Members, Participants, or Others

No written comments relating to the proposed rule change have been solicited or received by EMCC. EMCC will notify the Commission of any written comments received by EMCC.

III. Date of Effectiveness of the Proposed Rule Change and Timing for Commission Action

The foregoing rule change has become effective pursuant to Section 19(b)(3)(A)(iii) of the Act ³ and Rule 19b-4(f)(4) ⁴ thereunder because the rule change effects a change in an existing service of EMCC that does not adversely affect the safeguarding of securities or funds in the EMCC's custody or control or for which it is responsible and does not significantly affect EMCC's respective rights or obligations or persons using the service. At any time within sixty days of the proposed filing of such rule change, the Commission may summarily abrogate such rule change if it appears to the Commission that such action is necessary or appropriate in the public interest, for the protection of investors, or otherwise in furtherance of the purposes of the Act.

³ 15 U.S.C. 78s(b)(3)(A)(iii).

⁴ 17 CFR 240.19b-4(f)(4).

IV. Solicitation of Comments

Interested persons are invited to submit written data, views, and arguments concerning the foregoing, including whether the proposed rule change is consistent with the Act. Persons making written submissions should file six copies thereof with the Secretary, Securities and Exchange Commission, 450 Fifth Street NW., Washington, DC 20549-0609. Copies of the submission, all subsequent amendments, all written statements with respect to the rule proposal that are filed with the Commission, and all written communications relating to the rule proposal between the Commission and any person, other than those that may be withheld from the public in accordance with the provisions of 5 U.S.C. 552, will be available for inspection and copying in the Commission's Public Reference Room in Washington, DC. Copies of such filing will also be available for inspection and copying at EMCC's principal office. All submissions should refer to File No. SR-EMCC-00-06 and should be submitted by December 26, 2000.

For the Commission by the Division of Market Regulation, pursuant to delegated authority.⁵
⁵ 17 CFR 200.30-3(a)(12).
Margaret H. McFarland,
Deputy Secretary.

[FR Doc. 00-30876 Filed 12-4-00; 8:45 am]

BILLING CODE 8010-01-M